DEPARTMENT OF LABOR

Employment and Training Administration

[SGA/DFA-PY-07-08]

Solicitation for Grant Applications (SGA); Office of Apprenticeship and the Women's Bureau SGA

AGENCY: Employment and Training Administration (ETA), Labor.

ACTION: Notice: Amendment to SGA/DFA-PY-07-08.

SUMMARY: The Employment and Training Administration published a document in the Federal Register on April 22, 2008, announcing the availability of funds and solicitation for grant applications (SGA) for the Women in Apprenticeship and Nontraditional Occupations. This notice is an amendment to the SGA and it amends the “Additional Award Administration Information” and “Other information” sections.

FOR FURTHER INFORMATION CONTACT: James Stockton, Grant Officer, Division of Federal Assistance, at (202) 693-3335.

SUPPLEMENTARY INFORMATION CORRECTION: in the Federal Register of April 22, in FR Doc. E8-8651. On page 21655 under the heading, “Reporting,” “Quarterly Financial Status Report (ETA 9130)” is amended to read “Quarterly Financial Status Report (ETA 9130)/OMB Approval No. 1205-0461.” The third paragraph of the same section entitled “Quarterly Progress Reports” is amended to read “Quarterly Performance Progress Report, SF-PPR/OMB Approval Number: 0970-0443.”

DATES: Effective Date: This notice is effective April 28, 2008.

Signed at Washington, DC, this 22nd of April, 2008.
James W. Stockton,
Grant Officer.

[FR Doc. E8-9190 Filed 4-25-08; 8:45 am]

BILLING CODE 4510-FN-P